DEPARTMENT OF COMMERCE

National Oceanic and Atmospheric Administration

[RTID 0648-XC514]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Committee via webinar to consider actions affecting New England fisheries in the exclusive economic zone (EEZ). Recommendations from this group will be brought to the full Council for formal consideration and action, if appropriate.

DATES: This webinar will be held on Tuesday, November 22, 2022, at 9:30 a.m. Webinar registration URL information: https://attendee.gotowebinar.com/register/3586121371946018064.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will discuss recommendations from the Groundfish Advisory Panel, Recreational Advisory Panel, and Groundfish Plan Development Team. They will also discuss draft alternatives and draft impacts analysis, and make recommendations to the Council to include: status determination criteria, rebuilding plan for Gulf of Maine (GOM) cod, FY2023-FY2024 US/CA total allowable catches, FY2023-FY2024 specifications: Georges Bank (GB) yellowtail flounder and GB cod (including a catch target for the recreational fishery), FY2023-FY2025 specifications for 14 stocks, additional measures to promote stock rebuilding for GB cod and GOM cod, and revised acceptable biological catch (ABC) control rules, in consultation with the Scientific and Statistical Committee in Framework Adjustment 65/Specifications & Management Measures. The Committee will discuss the development of a draft white paper on potential approaches to allocate “Georges Bank cod” to the recreational fishery delivered in 2022 to inform the 2023 priorities discussion regarding Atlantic Cod Management.

They will make possible 2023 Council Priorities recommendations to the Council, as appropriate, and discuss other business as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 31, 2022.
Rey Israel Marquez,
Acting Deputy Director, Office of Sustainable Fisheries, National Marine Fisheries Service.

[FR Doc. 2022-23966 Filed 11-2-22; 8:45 am]

BILLING CODE 3510-22-P